DEPARTMENT OF ENERGY

Federal Energy Regulatory Commission

Combined Notice of Filings #2

Take notice that the Commission received the following electric rate filings:

Docket Numbers: ER10-2136-017.

Applicants: Invenergy Cannon Falls LLC.

Description: Triennial Market Power Analysis for Central Region of Invenergy Cannon Falls LLC.

Filed Date: 6/30/21.

Accession Number: 20210630-5347.

Comments Due: 5 p.m. ET 8/30/21.

Docket Numbers: ER10-2417-004; ER13-122-004.

Applicants: ExxonMobil Baton Rouge Complex, ExxonMobil Beaumont Complex.

Description: Triennial Market Power Analysis for Central Region of ExxonMobil Baton Rouge Complex, et al.

Filed Date: 6/30/21.

Accession Number: 20210630-5352.

Comments Due: 5 p.m. ET 8/30/21.

Docket Numbers: ER10-2421-007; ER10-2616-021; ER10-3247-014; ER11-2457-007; ER11-4398-009; ER11-4400-017; ER12-2250-008; ER12-2251-008; ER12-2252-009; ER12-2253-008; ER14-1569-014; ER14-2245-008; ER14-883-015; ER14-922-007; ER14-924-007; ER15-1161-001; ER15-1596-014; ER15-1599-014; ER15-2535-004; ER19-102-007; ER19-158-009; ER19-2608-001; ER19-2803-006; ER19-2806-006; ER19-2807-006; ER19-2809-006; ER19-2810-006; ER19-2811-006.

Applicants: Energy Services Providers, Inc., Ambit Northeast, LLC, Cincinnati Bell Energy LLC, Connecticut Gas & Electric, Inc., Dynegy Energy Services, LLC, Dynegy Energy Services (East), LLC, Dynegy Marketing and Trade, LLC, Dynegy Midwest Generation, LLC, Dynegy Power Marketing, LLC, Electric Energy, Inc., Energy Rewards, LLC, Everyday Energy NJ, LLC, Everyday Energy, LLC, Illinois Power Generating Company, Illinois Power Marketing Company, Illinois Power Resources Generating, LLC, Luminant Commercial Asset Management LLC, Luminant Energy Company LLC, Massachusetts Gas & Electric, Inc., Midwest Electric Power, Inc., Public Power & Utility of Maryland, LLC, Public Power & Utility of NY, Inc, Public Power, LLC, Public Power, LLC (PA), TriEagle Energy, LP, Viridian Energy, LLC, Viridian Energy NY, LLC, Viridian Energy PA, LLC.

Description: Triennial Market Power Analysis for Central Region of Energy Services Providers, Inc, et al.

Filed Date: 6/29/21.

Accession Number: 20210629-5274.

Comments Due: 5 p.m. ET 8/30/21.

Docket Numbers: ER11-2105-005.

Applicants: Oklahoma Gas and Electric Company.

Description: Triennial Market Power Analysis for Southwest Power Pool, Inc. Region of Oklahoma Gas and Electric Company.

Filed Date: 6/30/21.

Accession Number: 20210630-5354.

Comments Due: 5 p.m. ET 8/30/21.

Docket Numbers: ER11-4044-026.

Applicants: Gratiot County Wind LLC.

Description: Triennial Market Power Analysis for Central Region of Gratiot County Wind LLC.

Filed Date: 6/30/21.

Accession Number: 20210630-5348.

Comments Due: 5 p.m. ET 8/30/21.

Docket Numbers: ER11-4046-025.

Applicants: Gratiot County Wind II LLC.

Description: Triennial Market Power Analysis for Central Region of Gratiot County Wind II LLC.

Filed Date: 6/30/21.

Accession Number: 20210630-5349.

Comments Due: 5 p.m. ET 8/30/21.

Docket Numbers: ER11-4267-017; ER11-113-013; ER11-4694-009; ER12-1680-010; ER17-2084-003; ER20-967-001; ER21-44-003.

Applicants: Algonquin Energy Services Inc., Altavista Solar, LLC, GSG 6, LLC, Sandy Ridge Wind, LLC, Minonk Wind, LLC, Great Bay Solar I, LLC, Great Bay Solar II, LLC.

Description: Notice of Non-Material Change in Status of Algonquin Energy Services Inc., et al.

Filed Date: 6/30/21.

Accession Number: 20210630-5355.

Comments Due: 5 p.m. ET 7/21/21.

Docket Numbers: ER16-1720-018.

Applicants: Invenergy Energy Management LLC.

Description: Triennial Market Power Analysis for Central Region of Invenergy Energy Management LLC.

Filed Date: 6/30/21.

Accession Number: 20210630-5350.

Comments Due: 5 p.m. ET 8/30/21.

Docket Numbers: ER16-2320-009.

Applicants: Pacific Gas and Electric Company.

Description: Compliance filing: TO18 Tax Act Compliance Filing to be effective N/A.

Filed Date: 7/2/21.

Accession Number: 20210702-5061.

Comments Due: 5 p.m. ET 7/23/21.

Docket Numbers: ER16-2703-005; ER10-2738-011; ER11-4267-016; ER15-2631-008; ER20-2379-003.

Applicants: Deerfield Wind Energy, LLC, Odell Wind Farm, LLC, The Empire District Electric Company, Algonquin Energy Services Inc., Sugar Creek Wind One LLC.

Description: Triennial Market Power Analysis for Central Region of Deerfield Wind Energy, LLC, et al.

Filed Date: 6/30/21.

Accession Number: 20210630-5351.

Comments Due: 5 p.m. ET 8/30/21.

Docket Numbers: ER20-2004-001.

Applicants: Public Service Electric and Gas Company, PJM Interconnection, L.L.C.

Description: Compliance filing: PSEG submits Order 864 Compliance Filing re: Deficiency Letter to be effectiveN/A.

Filed Date: 7/2/21.

Accession Number: 20210702-5008.

Comments Due: 5 p.m. ET 7/23/21.

Docket Numbers: ER21-1660-000.

Applicants: Arizona Public Service Company.

Description: Report Filing: Service Agreement No. 363—Refund Report to be effective N/A.

Filed Date: 7/2/21.

Accession Number: 20210702-5058.

Comments Due: 5 p.m. ET 7/23/21.

Docket Numbers: ER21-2343-000.

Applicants: Guzman Energy LLC.

Description: Petition for Limited Waiver of Guzman Energy LLC.

Filed Date: 7/1/21.

Accession Number: 20210701-5316.

Comments Due: 5 p.m. ET 7/16/21.

Docket Numbers: ER21-2346-000.

Applicants: Bellingham Power Generation LLC.

Description: Compliance filing: Notices of Succession and Revisions to Tariffs Refiling under ER21-1894 to be effective 4/16/2021.

Filed Date: 7/2/21.

Accession Number: 20210702-5032.

Comments Due: 5 p.m. ET 7/23/21.

Docket Numbers: ER21-2347-000.

Applicants: Blackstone Power Generation LLC.

Description: Compliance filing: Notices of Succession and Revisions to Tariffs Refiling under ER21-1895 to be effective 4/16/2021.

Filed Date: 7/2/21.

Accession Number: 20210702-5035.

Comments Due: 5 p.m. ET 7/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2021.
Debbie-Anne A. Reese,
Deputy Secretary.

[FR Doc. 2021-14664 Filed 7-8-21; 8:45 am]

BILLING CODE 6717-01-P